DEPARTMENT OF VETERANS AFFAIRS

Advisory Committee on Women Veterans; Notice of Meeting

The Department of Veterans Affairs (VA) gives notice under Public Law 92-463 (Federal Advisory Committee Act) that the Advisory Committee on Women Veterans will meet July 14, 2011, in The Connect Room, at The Liaison Capitol Hill Hotel, 415 New Jersey Avenue, NW., Washington, DC, from 8:30 a.m. until 4:30 p.m. The meeting is open to the public.

The purpose of the Committee is to advise the Secretary of Veterans Affairs on the needs of women Veterans with respect to health care, rehabilitation, compensation, outreach, and other programs and activities administered by VA designed to meet such needs. The Committee makes recommendations to the Secretary regarding such programs and activities.

The agenda will include briefings on the National fee program and fee-based care for women Veterans; services provided by the Office of Survivors Assistance; the Veterans Crisis Line; and updates from the DoD-VA Suicide Prevention Conference, military sexual trauma claims identifiers, and the Caregivers Program. In the afternoon, the Committee will receive briefings on the 2011 National Training Summit on Women Veterans and the 2012 report process and timeline. The Committee will then engage in discussions on its 2012 annual report and work in subcommittees.

No time will be allocated at this meeting for receiving oral presentations from the public. Interested parties should provide written comments for review by the Committee to Ms. Shannon L. Middleton, at the Department of Veterans Affairs, Center for Women Veterans (00W), 810 Vermont Avenue, NW., Washington, DC 20420, or e-mail at 00W@mail.va.gov, or fax to (202) 273-7092. Individuals who wish to attend the meeting should contact Ms. Middleton at (202) 461-6193.

Dated: June 23, 2011.
By Direction of the Secretary.
Vivian Drake,
Acting Committee Management Officer.

[FR Doc. 2011-16206 Filed 6-27-11; 8:45 am]

BILLING CODE P